DEPARTMENT OF COMMERCE

International Trade Administration

[A-403-801]

Final Results of Antidumping Duty Changed Circumstances Review: Fresh and Chilled Atlantic Salmon from Norway

AGENCY: Import Administration, International Trade Administration, Department of Commerce.

ACTION: Final Results of Antidumping Duty Changed Circumstances Review: Fresh and Chilled Atlantic Salmon from Norway

SUMMARY: On August 5, 2009, the Department of Commerce (Department) initiated a changed circumstances review of the antidumping order on fresh and chilled Atlantic Salmon from Norway and preliminarily determined that Nordic Group AS is the successor-in-interest to Nordic Group A/L for purposes of determining antidumping duty liability. We received comments from interested parties. Based on our analysis, we are now affirming our preliminary results.

EFFECTIVE DATE: June 8, 2010.

FOR FURTHER INFORMATION CONTACT: John Conniff, Office of AD/CVD Operations, Office 3, Import Administration, International Trade Administration, U.S. Department of Commerce, 14th and Constitution Avenue, NW, Washington, DC 20230; telephone: (202) 482-1009.

SUPPLEMENTARY INFORMATION:

Background

On April 12, 1991, the Department issued the order on fresh and chilled Atlantic Salmon from Norway. See Antidumping Duty Order: Fresh and Chilled Atlantic Salmon from Norway, 56 FR 14920 (April 12, 1991) (Norwegian Salmon Order). Nordic Group A/L, as an exporter of subject fresh whole salmon from Norway to the U.S., requested a new shipper review (NSR) in 1995. The Department issued the final results of the NSR in which it calculated a de minimis margin for Nordic Group A/L. See Fresh and Chilled Salmon from Norway: Final Results of New Shipper Antidumping Duty Administrative Review, 62 FR 1430 (January 10, 1997). On December 30, 2005, the Department published in the Federal Register the final results of the full sunset review of the antidumping duty order on fresh and chilled Atlantic Salmon from Norway. See Fresh and Chilled Atlantic Salmon from Norway: Final Results of the Full Sunset Review of Antidumping Duty Order, 70 FR 77378 (December 30, 2005) (Sunset Final), and continued the order in 2005.

On June 12, 2009, Nordic Group AS (respondent) filed a request for a changed circumstances review of the Norwegian Salmon Order. Claiming that Nordic Group A/L changed its name to Nordic Group AS, Nordic Group AS requested that it receive the same antidumping duty treatment as is accorded to Nordic Group A/L. In addition, Nordic Group AS submitted documentation of its management, sales operations, supplier relationships and customer base in support of its claim. Nordic Group AS requested further that the Department combine the notice of initiation of the review and the preliminary results of review in a single notice as this review essentially involves only corporate name changes.

On August 5, 2009, the Department published its Notice of Initiation and Preliminary Results of Antidumping Duty Changed Circumstances Review: Fresh and Chilled Atlantic Salmon from Norway, 74 FR, August 5, 2009) (Initiation and Preliminary Notice) determining that expedited action was warranted because Nordic Group AS had provided prima facia evidence that Nordic Group AS is the successor-in-interest and operates as the same business entity as Nordic Group A/L.

On August 26, 2009, Cooke Aquaculture Inc. (“the petitioner”) filed a case brief in response to the Department's Initiation and Preliminary Notice requesting that the Department conduct a full 270-day investigation of the proceeding and within its brief submitted new information in support of its allegations that the Nordic Group AS failed to provide full descriptions of its operation and organization. On September 16, 2009, the respondent submitted a case brief rebutting petitioners' assertions, which also included new information.

Under 19 CFR 351.301(b), parties will have “140 days after the date of publication of notice of initiation of the review to submit new factual information, except that factual information requested by the verifying officials.” Thus, parties had until December 23, 2009, to submit new information and argument. Accordingly, the Department accepted all of the new factual information supplied by both parties on the record submitted before the December 23, 2009, deadline. Further, in light of the new information on the record, on April 6, 2010, the Department issued an additional briefing schedule inviting parties to brief the new information in addition to what was already on the record. We received case and rebuttal briefs from both parties on April 13, 2010, and April 20, 2010.

On April 30, 2010 the Department determined that it needed additional time to complete the review in accordance with 19 CFR 351.302 (b), extended the time period for issuing the final results of the changed circumstances review by two weeks, until May 17, 2010.

Scope of the Order

The product covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated. Atlantic salmon is currently provided for under the Harmonized Tariff Schedule of the United States (HTSUS) subheadings 0302.12.0003 and 0302.12.0004. The HTSUS subheadings are provided for convenience and customs purposes. The written description remains dispositive as to the scope of the product coverage.

Analysis of Comments Received

All issues raised in the case and rebuttal briefs by parties to this changed circumstances review are addressed in the Issues and Decision Memorandum, which is hereby adopted by this notice. A list of the issues which parties have raised, and to which we have responded in the Issues and Decision Memorandum, is attached to this notice as an Appendix. The Issues and Decision Memorandum is available in the Central Records Unit, room 1117, of the main Commerce building. In addition, a complete version of the Issues and Decision Memorandum can be accessed directly on the Web at http://ia.ita.doc.gov/frn. The paper copy and electronic version of the Issues and Decision Memorandum are identical in content.

Final Results of Changed Circumstances Review

In accordance with 19 CFR 351.221(c) (3) (i), we have determined that Nordic Group AS is the successor-in-interest to Nordic Group A/L and should be accorded the same treatment as Nordic Group A/L. We will instruct U.S. Customs and Border Protection that a cash deposit rate of zero percent will be effective Nordic Group AS for all shipments of the subject merchandise entered, or withdraw from a warehouse, for consumption on or after the date of publication of these final results.

Notification

This notice serves as a reminder to parties subject to administrative protective orders (APOs) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b) (1) and 777(i) of the Act and 19 CFR 351.216 and 351.221.

Dated: June 1, 2010.
Ronald K. Lorentzen,
Deputy Assistant Secretary for Import Administration.

APPENDIX

Comment 1 Evidence on the Record to Support a CCR

Comment 2 Comparison of Nordic Group A/L Relative to Nordic Group AS

Comment 3 CCR with Respect To Nordic AS

A) Customer and Supplier Relationships

B)Management Structure and Board of Directors

C)Production Facilities

Comment 4 Document Retention

Comment 5 Timeliness of Nordic AS Request for a CCR

Comment 6 Nordic Group Utilizing the Zero Percent Rate

Comment 7 Nordic Group AS's Corporate History

[FR Doc. 2010-13780 Filed 6-7-10; 8:45 am]

BILLING CODE 3510-DS-S